DEPARTMENT OF THE TREASURY

Internal Revenue Service

26 CFR Parts 1 and 14a

[REG-122917-02]

RIN 1545-BA75

Statutory Stock Options; Hearing

AGENCY: Internal Revenue Service (IRS), Treasury.

ACTION: Cancellation of notice of public hearing on proposed rulemaking.

SUMMARY: This document provides notice of cancellation of a public hearing on proposed rulemaking relating to statutory stock options.

DATES: The public hearing originally scheduled for Tuesday, September 2, 2003, at 10 a.m. is cancelled.

FOR FURTHER INFORMATION CONTACT: Guy R. Traynor of the Legal Processing Division, Associate Chief Counsel, at (202) 622-3693 (not a toll-free number).

SUPPLEMENTARY INFORMATION: A notice of proposed rulemaking and notice of public hearing that appeared in the Federal Register on June 9, 2003 (68 FR 34344), announced that a public hearing was scheduled for September 2, 2003 at 10 a.m., in the auditorium of the Internal Revenue Building, 1111 Constitution Avenue NW., Washington, DC. The subject of the Public hearing is proposed regulations under sections 421, 422, 423, 424, 425 and 6039, of the Internal Revenue Code. The public comment period for these proposed regulations expired on August 12, 2003.

The notice of proposed rulemaking and notice of public hearing, instructed those interested in testifying at the public hearing to submit a request to speak and an outline of topics to be addressed. As of August 18, 2003, no one has requested to speak. Therefore, the public hearing scheduled for September 2, 2003 is cancelled.

LaNita Van Dyke,
Acting Chief, Legal Publishing Division, Associate Chief Counsel (Procedure & Administration).

[FR Doc. 03-21470 Filed 8-21-03; 8:45 am]

BILLING CODE 4830-01-P